DEPARTMENT OF ENERGY

Federal Energy Regulatory Commission

Combined Notice of Filings #3

Take notice that the Commission received the following electric rate filings:

Docket Numbers: ER12-952-002; ER13-1141-001; ER13-1142-001; ER13-1143-002; ER13-1144-002; ER10-2196-001.

Applicants: Essential Power, LLC, Essential Power Massachusetts, LLC, Essential Power Newington, LLC, Essential Power OPP, LLC, Essential Power Rock Springs, LLC, Lakewood Cogeneration, LP.

Description: Updated Appendix B to December 20, 2013 Triennial Market-Based Rate Update Filing for the Northeast Region of the EP Entities.

Filed Date: 6/30/14.

Accession Number: 20140630-5367.

Comments Due: 5 p.m. ET 8/29/14.

Docket Numbers: ER14-2346-000.

Applicants: Southwest Power Pool, Inc.

Description: 1876R3 KEPCO NITSA NOA to be effective 6/1/2014.

Filed Date: 7/1/14.

Accession Number: 20140701-5168.

Comments Due: 5 p.m. ET 7/22/14.

Docket Numbers: ER14-2347-000.

Applicants: California Independent System Operator Corporation.

Description: 2014-07-01_GatesGregg_APSA to be effective 8/31/2014.

Filed Date: 7/1/14.

Accession Number: 20140701-5176.

Comments Due: 5 p.m. ET 7/22/14.

Docket Numbers: ER14-2348-000.

Applicants: Southwest Power Pool, Inc.

Description: 2900 Kansas Municipal Energy Agency NITSA NOA to be effective 5/1/2014.

Filed Date: 7/1/14.

Accession Number: 20140701-5175.

Comments Due: 5 p.m. ET 7/22/14.

Docket Numbers: ER14-2349-000.

Applicants: Southwest Power Pool, Inc.

Description: Southwest Power Pool, Inc. submits tariff filing per 35.13(a)(2)(iii) 1313R8 Oklahoma Gas and Electric Company NITSA and NOA to be effective 5/1/2014.

Filed Date: 7/1/14.

Accession Number: 20140701-5181.

Comments Due: 5 p.m. ET 7/22/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2014.
Nathaniel J. Davis, Sr.,
Deputy Secretary.

[FR Doc. 2014-16027 Filed 7-8-14; 8:45 am]

BILLING CODE 6717-01-P